DEPARTMENT OF JUSTICE

Notice of Lodging of Proposed Consent Decree Under the Comprehensive Environmental Response, Compensation, and Liability Act

On June 24, 2015, the Department of Justice lodged a proposed Consent Decree with the United States District Court for the Eastern District of Washington in the lawsuit entitled United States v. Intalco Aluminum Corporation, Civil Action No. 2:15-cv-00161 SAB, Dkt # 2.

The United States of America, by its undersigned counsel, brought this complaint and proposed consent decree on behalf of the United States Environmental Protection Agency (EPA) and the United States Department of Agriculture Forest Service (“USFS”) (collectively, “United States”), against Intalco Aluminum Corporation (“Intalco” or “Defendant”).

The United States brings this civil action under Section 107 of the Comprehensive Environmental Response, Compensation, and Liability Act, 42 U.S.C. 9607, to recover past response costs incurred by the United States in connection with releases and threatened releases of hazardous substances from the Holden Mine Site in Chelan County, Washington (the “Site”). Intalco is incorporated under the laws of Delaware and is a successor to Howe Sound Company, a former operator of the Holden Mine.

The Site is located in north-central Washington state, within the Okanogan-Wenatchee National Forest, and consists of National Forest System land and adjoining private land. The Site is in a remote area approximately twelve miles northwest of Lake Chelan, and is accessible only by Lake Chelan ferry. The Howe Sound Company (“Howe Sound”) operated the Holden Mine at the Site from 1938-1957, extracting copper, zinc, silver, and gold from approximately sixty miles of underground workings. The Holden Mine ceased operations in 1957. Subsequently, Howe Sound's interest in the Site was transferred to Holden Village, Inc., which has operated an interdenominational retreat at the Site since 1961 under a Special Use Permit issued by the USFS. The Holden Village has 5,000 to 6,000 visitors each year, and is home to approximately 50 year-round residents. Defendant is the legal successor to Howe Sound.

During the period of mining operations, metals were recovered from the ore taken from Holden Mine in an on-Site mill. Approximately 10 million tons of mill tailings were left on-Site after mining operations ceased, placed in three piles spread over approximately 120 acres. Additionally, approximately 250,000-300,000 cubic yards of rock that did not contain mineral concentrations sufficient to mill were placed in two large waste rock piles on the Site. There have been, and continue to be, releases and threatened releases of hazardous substances to the environment from the tailings and waste rock piles that have caused the United States to incur response costs under CERCLA. The subject Consent Decree resolves the United States' claims for reimbursement of a portion of those costs.

The publication of this notice opens a period for public comment on the Proposed Consent Decree. Comments should be addressed to the Assistant Attorney General, Environment and Natural Resources Division, and should refer to United States v. Intalco Aluminum Corporation, Civil Action No. 2:15-cv-00161 SAB, D.J. Ref. No. 90-11-2-1135/3. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Proposed Consent Decree may be examined and downloaded at this Justice Department Web site: http://www.justice.gov/enrd/consent-decrees. We will provide a paper copy of the proposed consent decree upon written request and payment of reproduction costs. Please mail your request and payment to: Consent Decree Library, U.S. DOJ-ENRD, P.O. Box 7611, Washington, DC 20044-7611.

Please enclose a check or money order for $6.75 (25 cents per page reproduction cost) payable to the United States Treasury.

Maureen Katz,
Assistant Section Chief, Environmental Enforcement Section, Environment and Natural Resources Division.

[FR Doc. 2015-16119 Filed 6-30-15; 8:45 am]

BILLING CODE 4410-15-P